ENVIRONMENTAL PROTECTION AGENCY

40 CFR Part 55

[EPA-R04-OAR-2008-0605; FRL-8710-9]

Outer Continental Shelf Air Regulations Consistency Update for Florida

AGENCY: Environmental Protection Agency (EPA).

ACTION: Proposed rule-consistency update.

SUMMARY: EPA is proposing to update a portion of the Outer Continental Shelf (OCS) Air Regulations. Requirements applying to OCS sources located within 25 miles of states' seaward boundaries must be updated periodically to remain consistent with the requirements of the corresponding onshore area (COA), as mandated by section 328(a)(1) of the Clean Air Act (“CAA” or “the Act”). The portion of the OCS air regulations that is being updated pertains to the requirements for OCS sources for which the State of Florida will be the designated COA. The effect of approving the OCS requirements for the State of Florida is to regulate emissions from OCS sources in accordance with the requirements onshore. The change to the existing requirements discussed below is proposed to be incorporated by reference into the Code of Federal Regulations (CFR) and is listed in the appendix to the OCS air regulations. This proposed action is an annual update of the Florida's OCS Air Regulations. These rules include revisions to existing rules that already apply to OCS sources.

DATES: Comments must be received on or before October 6, 2008.

ADDRESSES: Submit your comments, identified by Docket ID No. EPA-R04-OAR-2008-0605, by one of the following methods:

1. http://www.regulations.gov: Follow the on-line instructions for submitting comments.

2. E-mail: lakeman.sean@epa.gov.

3. Fax: (404) 562-9019.

4. Mail: “(EPA-R04-OAR-2008-0605),” Air Permit Section, Air Planning Branch, Air, Pesticides and Toxics Management Division, U.S. Environmental Protection Agency, Region 4, 61 Forsyth Street, SW., Atlanta, Georgia 30303-8960.

5. Hand Delivery or Courier: Sean Lakeman, Air Permit Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to Docket ID No. “(EPA-R04-OAR-2008-0605).” EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Air Permit Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Sean Lakeman, Air Permit Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

SUPPLEMENTARY INFORMATION: Throughout this document whenever “we,” “us,” or “our” is used, we mean EPA. The following outline is provided to aid in locating information in this preamble.

I. Background and Purpose

II. EPA's Evaluation

III. Proposed Action

IV. Statutory and Executive Order Reviews

I. Background and Purpose

On September 4, 1992, EPA promulgated 40 CFR part 55,¹ which established requirements to control air pollution from OCS sources in order to attain and maintain federal and state ambient air quality standards and to comply with the provisions of part C of title I of the Act. Part 55 applies to all OCS sources offshore of the states except those located in the Gulf of Mexico west of 87.5 degrees longitude. Section 328 of the Act requires that for such sources located within 25 miles of a state's seaward boundary, the requirements shall be the same as would be applicable if the sources were located in the COA. Because the OCS requirements are based on onshore requirements, and onshore requirements may change, section 328(a)(1) of the Act requires that EPA update the OCS requirements as necessary to maintain consistency with onshore requirements.

¹ For further information see the Notice of Proposed Rulemaking, December 5, 1991 (56 FR 63774), and the preamble to the final rule promulgated September 4, 1992 (57 FR 40792).

Pursuant to 40 CFR 55.12 of the OCS rule, “consistency reviews will occur at least annually. In addition, in accordance with paragraphs (c) and (d) of this section, consistency reviews will occur upon receipt of an NOI (notice of intent) and when a State or local agency submits a rule to EPA to be considered for incorporation by reference in this part 55.” This proposed action is an annual update of the Florida's OCS Air Regulations, which are incorporated by reference into 40 CFR part 55, Appendix A.

Section 328(a) of the Act requires that EPA establish requirements to control air pollution from OCS sources located within 25 miles of states' seaward boundaries that are the same as onshore requirements. To comply with this statutory mandate, EPA must incorporate applicable onshore rules into part 55 as they exist onshore. This process is distinct from the State Implementation Plan (SIP) process and incorporation of a rule into part 55 as part of the OCS consistency update process does not ensure such a rule would be appropriate for inclusion into the SIP. EPA's review of Florida's rules for OCS consistency update purposes is described below.

II. EPA's Evaluation

In updating 40 CFR part 55, Appendix A, EPA reviewed Florida's rules for inclusion into part 55 to ensure that they are (1) rationally related to the attainment or maintenance of federal or state ambient air quality standards and part C of title I of the Act; (2) not designed expressly to prevent exploration and development of the OCS; and (3) applicable to OCS sources. 40 CFR 55.1. EPA has also evaluated the rules to ensure they are not arbitrary or capricious. 40 CFR 55.12(e). In addition, EPA has excluded administrative or procedural rules,² and requirements that regulate toxics which are not related to the attainment and maintenance of federal and state ambient air quality standards.

² Each COA which has been delegated the authority to implement and enforce part 55, will use its administrative and procedural rules as it does with onshore sources. However, in those instances where EPA has not delegated authority to implement and enforce part 55, as in Florida, EPA will use its own administrative and procedural requirements to implement the substantive requirements. See 40 CFR 55.14(c)(4).

EPA is soliciting public comments on the proposal to update 40 CFR part 55, Appendix A to include recent changes to Florida's onshore rules that affect OCS sources. Any comments will be considered before taking final action. Interested parties may participate in the Federal rulemaking procedure by submitting comments to the EPA Region 4 Office listed in the ADDRESSES section of this Federal Register.

III. Proposed Action

EPA is proposing an annual update of the Florida's OCS Air Regulations. These rules include revisions to existing rules that already apply to OCS sources. The rules that EPA is proposing to incorporate are applicable provisions of Chapter 62 of the Florida Administrative Code, listed in detail at the end of this document.

IV. Statutory and Executive Order Reviews

A. Executive Order 12866: Regulatory Planning and Review

Under Executive Order 12866 (58 FR 51735 (October 4, 1993)), the Agency must determine whether the regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or state, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This action is not a “significant regulatory action” under the terms of Executive Order 12866 and is therefore not subject to OMB Review. These rules implement requirements specifically and explicitly set forth by the Congress in section 328 of the CAA, without the exercise of any policy discretion by EPA. These OCS rules already apply in the COA, and EPA has no evidence to suggest that these OCS rules have created an adverse material effect. As required by section 328 of the CAA, this action simply updates the existing OCS requirements to make them consistent with rules in the COA.

B. Paperwork Reduction Act

The OMB has approved the information collection requirements contained in 40 CFR part 55, and by extension this update to the rules, under the provisions of the Paperwork Reduction Act, 44 U.S.C. 3501 et seq., and has assigned OMB control number 2060-0249. Notice of OMB's approval of EPA Information Collection Request (ICR) No. 1601.06 was published in the Federal Register on March 1, 2006 (71 FR 10499). The approval expires January 31, 2009. As EPA previously indicated (70 FR 65897 (November 1, 2005)), the annual public reporting and recordkeeping burden for collection of information under 40 CFR part 55 is estimated to average 549 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable.

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

These rules will not have a significant economic impact on a substantial number of small entities. These rules implement requirements specifically and explicitly set forth by the Congress in section 328 of the CAA, without the exercise of any policy discretion by EPA. These OCS rules already apply in the COA, and EPA has no evidence to suggest that these OCS rules have had a significant economic impact on a substantial number of small entities. As required by section 328 of the CAA, this action simply updates the existing OCS requirements to make them consistent with rules in the COA. Therefore, this action will not have a significant economic impact on a substantial number of small entities.

D. Unfunded Mandates Reform Act

Title II of the Unfunded Mandates Reform Act of 1995 (UMRA), Public Law 104-4, establishes requirements for Federal agencies to assess the effects of their regulatory actions on state, local, and tribal governments and the private sector. Under section 202 of the UMRA, EPA generally must prepare a written statement, including a cost-benefit analysis, for proposed and final rules with “Federal mandates” that may result in expenditures to state, local, and tribal governments, in the aggregate, or to the private sector, of $100 million or more in any one year.

Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted.

Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

This document contains no Federal mandates (under the regulatory provisions of Title II of the UMRA) for state, local, or tribal governments or the private sector that may result in expenditures of $100 million or more for state, local, or tribal governments, in the aggregate, or to the private sector in any one year. This action would implement requirements specifically and explicitly set forth by the Congress in section 328 of the CAA without the exercise of any policy discretion by EPA. The OCS rules already apply in the COA, and EPA has no evidence to suggest that applying them in the OCS would result in expenditures to state, local, and tribal governments, in the aggregate, or to the private sector, of $100 million or more in any one year. As required by section 328 of the CAA, this action simply updates the existing OCS requirements to make them consistent with rules in the COA.

E. Executive Order 13132, Federalism

Executive Order 13132, entitled “Federalism” (64 FR 43255 (August 10, 1999)), requires EPA to develop an accountable process to ensure “meaningful and timely input by state and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the states, on the relationship between the national government and the states, or on the distribution of power and responsibilities among the various levels of government, as specified in Executive Order 13132. These rules implement requirements specifically and explicitly set forth by the Congress in section 328 of the CAA, without the exercise of any policy discretion by EPA. As required by section 328 of the CAA, this rule simply updates the existing OCS rules to make them consistent with current COA requirements. These rules do not amend the existing provisions within 40 CFR part 55 enabling delegation of OCS regulations to a COA, and this rule does not require the COA to implement the OCS rules. Thus, Executive Order 13132 does not apply to this rule.

In the spirit of Executive Order 13132, and consistent with EPA policy to promote communications between EPA and state and local governments, EPA specifically solicits comments on this proposed rule from state and local officials.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This rule does not have a substantial direct effect on one or more Indian tribes, on the relationship between the Federal Government and Indian tribes or on the distribution of power and responsibilities between the Federal Government and Indian tribes and thus does not have “tribal implications,” within the meaning of Executive Order 13175. This rule implements requirements specifically and explicitly set forth by the Congress in section 328 of the CAA, without the exercise of any policy discretion by EPA. As required by section 328 of the CAA, this rule simply updates the existing OCS rules to make them consistent with current COA requirements. In addition, this rule does not impose substantial direct compliance costs on tribal governments, nor preempt tribal law. Consultation with Indian tribes is therefore not required under Executive Order 13175. Nonetheless, in the spirit of Executive Order 13175 and consistent with EPA policy to promote communications between EPA and tribes, EPA specifically solicits comments on this proposed rule from tribal officials.

G. Executive Order 13045, Protection of Children From Environmental Health Risks and Safety Risks

Executive Order 13045: “Protection of Children from Environmental Health Risks and Safety Risks” (62 FR 19885 (April 23, 1997)), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This proposed rule is not subject to Executive Order 13045 because it is not economically significant as defined in Executive Order 12866. In addition, the Agency does not have reason to believe the environmental health or safety risks addressed by this action present a disproportional risk to children.

H. Executive Order 13211, Actions That Significantly Affect Energy Supply, Distribution, or Use

This proposed rule is not subject to Executive Order 13211, “Actions Concerning Regulations That Significantly Affect Energy Supply, Distribution, or Use” (66 FR 28355, May 22, 2001) because it is not a significant regulatory action under Executive Order 12866.

I. National Technology Transfer and Advancement Act

Section 12(d) of the National Technology Transfer and Advancement Act of 1995 (NTTAA), Public Law 104-113, section 12(d) (15 U.S.C. 272 note) directs EPA to use voluntary consensus standards in its regulatory activities unless to do so would be inconsistent with applicable laws or otherwise impractical. Voluntary consensus standards are technical standards (e.g., materials specifications, test methods, sampling procedures, and business practices) that are developed or adopted by voluntary consensus standards bodies. The NTTAA directs EPA to provide Congress, through OMB, explanations when the Agency decided not to use available and applicable voluntary consensus standards.

As discussed above, these rules implement requirements specifically and explicitly set forth by the Congress in section 328 of the CAA, without the exercise of any policy discretion by EPA. As required by section 328 of the CAA, this rule simply updates the existing OCS rules to make them consistent with current COA requirements. In the absence of a prior existing requirement for the state to use voluntary consensus standards and in light of the fact that EPA is required to make the OCS rules consistent with current COA requirements, it would be inconsistent with applicable law for EPA to use voluntary consensus standards in this action. Therefore, EPA is not considering the use of any voluntary consensus standards. EPA welcomes comments on this aspect of the proposed rulemaking and, specifically, invites the public to identify potentially applicable voluntary consensus standards and to explain why such standards should be used in this regulation.

J. Executive Order 12898: Federal Actions To Address Environmental Justice in Minority Populations and Low-Income Populations

Executive Order 12898 (59 FR 7629 (February 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States. EPA lacks the discretionary authority to address environmental justice in this proposed action. This rule implements requirements specifically and explicitly set forth by the Congress in section 328 of the CAA, without the exercise of any policy discretion by EPA. As required by section 328 of the CAA, this rule simply updates the existing OCS rules to make them consistent with current COA requirements.

Although EPA lacks authority to modify today's regulatory decision on the basis of environmental justice considerations, EPA nevertheless explored this issue and found the following. This action, namely, updating the OCS rules to make them consistent with current COA requirements, will not have disproportionately high and adverse human health or environmental effects on minority or low-income populations because it increases the level of environmental protection for all affected populations without having any disproportionately high and adverse human health or environmental effects on any population, including any minority or low-income population. Environmental justice considerations may be appropriate to consider in the context of a specific OCS permit application.

List of Subjects in 40 CFR Part 55

Environmental protection, Administrative practice and procedure, Air pollution control, Continental Shelf, Incorporation by reference, Intergovernmental relations, Nitrogen dioxide, Ozone, Particulate matter, Reporting and recordkeeping requirements, Sulfur oxides.

Dated: August 25, 2008.
Russell L. Wright Jr.,
Acting Regional Administrator, Region 4.

For the reasons stated in the preamble, title 40 of the Code of Federal Regulations, is proposed to be amended as follows:

PART 55—[AMENDED]

1. The authority citation for part 55 continues to read as follows:

Authority: Section 328 of the Act (42 U.S.C. 7401, et seq.) as amended by Public Law 101-549.

2. Section 55.14 is amended as follows:

a. In paragraph (e) introductory text by removing the words “345 Courtland Street, NE., Atlanta, GA 30365” and adding in their place “61 Forsyth Street, Atlanta, Georgia 30303”.

b. By revising paragraph (e)(6)(i)(A).

§ 55.14 Requirements that apply to OCS sources located within 25 miles of States' seaward boundaries, by State.

* * * * *

(e) * * *

(6) * * *

(i) * * *

(A) State of Florida Requirements Applicable to OCS Sources, January 2, 2008.

* * * * *

3. Appendix A to part 55 is amended by adding a new paragraph (a) and revising paragraph (1) under the heading “Florida” to read as follows:

Appendix A to Part 55—Listing of State and Local Requirements Incorporated by Reference Into Part 55, by State

* * * * *

Florida

(a) State requirements.

(1) The following requirements are contained in State of Florida Requirements Applicable to OCS Sources, January 2, 2008:

Florida Administrative Code—Department of Environmental Protection. The following sections of Chapter 62:

Chapter 62-4 Permits

62-4.001 Scope of Part I (Effective 10/1/07)

62-4.020 Definitions (Effective 4/3/03)

62-4.021 Transferability of Definitions (Effective 8/31/88)

62-4.030 General Prohibition (Effective 8/31/88)

62-4.040 Exemptions (Effective 8/31/88)

62-4.050 Procedure to Obtain Permits and Other Authorizations; Applications (Effective 10/31/07)

62-4.055 Permit Processing (Effective 8/16/98)

62-4.060 Consultation (Effective 8/31/88)

62-4.070 Standards of Issuing or Denying Permits; Issuance; Denial (Effective 3/28/91)

62-4.080 Modification of Permit Conditions (Effective 3/19/90)

62-4.090 Renewals (Effective 3/16/08)

62-4.100 Suspension and Revocation (Effective 8/31/88)

62-4.110 Financial Responsibility (Effective 8/31/88)

62-4.120 Transfer of Permits (Effective 4/16/01)

62-4.130 Plant Operation—Problems (Effective 8/31/88)

62-4.150 Review (Effective 8/31/88)

62-4.160 Permit Conditions (Effective 7/11/93)

62-4.200 Scope of Part II (Effective 10/1/07)

62-4.210 Construction Permits (Effective 8/31/88)

62-4.220 Operation Permit for New Sources (Effective 8/31/88)

62-4.249 Preservation of Rights (Effective 8/31/88)

62-4.510 Scope of Part III (Effective 10/1/07)

62-4.520 Definition (Effective 7/11/90)

62-4.530 Procedures (Effective 3/19/90)

62-4.540 General Conditions for All General Permits (Effective 8/31/08)

Chapter 62-204 Air Pollution Control—General Provisions

62-204.100 Purpose and Scope (Effective 3/13/96)

62-204.200 Definitions (Effective 2/12/06)

62-204.220 Ambient Air Quality Protection (Effective 3/13/96)

62-204.240 Ambient Air Quality Standards (Effective 3/13/96)

62-204.260 Prevention of Significant Deterioration Maximum Allowable Increases (PSD Increments) (Effective 2/12/06)

62-204.320 Procedures for Designation and Redesignation of Areas (Effective 3/13/96)

62-204.340 Designation of Attainment, Nonattainment, and Maintenance Areas (Effective 3/13/96)

62-204.360 Designation of Prevention of Significant Deterioration Areas (Effective 3/13/96)

62-204.400 Public Notice and Hearing Requirements for State Implementation Plan Revisions (Effective 11/30/94)

62-204.500 Conformity (Effective 9/1/98)

62-204.800 Federal Regulations Effective by Reference (Effective 7/1/08)

Chapter 62-210 Stationary Sources—General Requirements

62-210.100 Purpose and Scope (Effective 1/10/07)

62-210.200 Definitions (Effective 3/16/08)

62-210.220 Small Business Assistance Program (Effective 2/11/99)

62-210.300 Permits Required (Effective 3/16/08)

62-210.310 Air General Permits (Effective 5/9/07)

62-210.350 Public Notice and Comment (Effective 2/2/06)

62-210.360 Administrative Permit Corrections (Effective 3/16/08)

62-210.370 Emissions Computation and Reporting (Effective 7/3/08)

62-210.550 Stack Height Policy (Effective 11/23/94)

62-210.650 Circumvention (Effective 8/26/1981)

62-210.700 Excess Emissions (Effective 11/23/94)

62-210.900 Forms and Instructions (Effective 7/3/08)

62-210.920 Registration Forms for Air General Permits (Effective 5/9/07)

Chapter 62-212 Stationary Sources—Preconstruction Review

62-212.100 Purpose and Scope (Effective 5/20/97)

62-212.300 General Preconstruction Review Requirements (Effective 2/2/06)

62-212.400 Prevention of Significant Deterioration (PSD) (Effective 7/16/07)

62-212.500 Preconstruction Review for Nonattainment Areas (Effective 2/2/06)

62-212.600 Sulfur Storage and Handling Facilities (Effective 8/17/00)

62-212.710 Air Emissions Bubble (Effective 5/20/97)

62-212.720 Actuals Plantwide Applicability Limits (PALs) (Effective 7/16/07)

Chapter 62-213 Operation Permits for Major Sources of Air Pollution

62-213.100 Purpose and Scope (Effective 3/13/96)

62-213.202 Responsible Official (Effective 6/02/02)

62-213.205 Annual Emissions Fee (Effective 3/16/08)

62-213.300 Title V Air General Permits (Effective 4/14/03)

62-213.400 Permits and Permit Revisions Required (Effective 3/16/08)

62-213.405 Concurrent Processing of Permit Applications (Effective 6/02/02)

62-213.410 Changes Without Permit Revision (Effective 6/02/02)

62-213.412 Immediate Implementation Pending Revision Process (Effective 6/02/02)

62-213.413 Fast-Track Revisions of Acid Rain Parts (Effective 6/02/02)

62-213.415 Trading of Emissions Within a Source (Effective 4/16/01)

62-213.420 Permit Applications (Effective 3/16/08)

62-213.430 Permit Issuance, Renewal, and Revision (Effective 3/16/08)

62-213.440 Permit Content (Effective 3/16/08)

62-213.450 Permit Review by EPA and Affected States (Effective 1/03/01)

62-213.460 Permit Shield (Effective 3/16/08)

62-213.900 Forms and Instructions (Effective 4/14/03)

Chapter 62-214 Requirements for Sources Subject to the Federal Acid Rain Program

62-214.100 Purpose and Scope (Effective 3/16/08)

62-214.300 Applicability (Effective 3/16/08)

62-214.320 Applications (Effective 3/16/08)

62-214.330 Acid Rain Compliance Plan and Compliance Options (Effective 3/16/08)

62-214.340 Exemptions (Effective 3/16/08)

62-214.350 Certification (Effective 12/10/97)

62-214.360 Department Action on Applications (Effective 3/16/08)

62-214.370 Revisions and Administrative Corrections (Effective 4/16/01)

62-214.420 Acid Rain Part Content (Effective 3/16/08)

62-214.430 Implementation and Termination of Compliance Options (Effective 3/16/08)

Chapter 62-252 Gasoline Vapor Control

62-252.100 Purpose and Scope (Effective 2/2/93)

62-252.200 Definitions (Effective 5/9/07)

62-252.300 Gasoline Dispensing Facilities—Stage I Vapor Recovery (Effective 5/9/07)

62-252.400 Gasoline Dispensing Facilities—Stage II Vapor Recovery (Effective 5/9/07)

62-252.500 Gasoline Tanker Trucks or Trailers (Effective 5/9/07)

62-252.900 Form (Effective 5/9/07)

Chapter 62-256 Open Burning and Frost Protection Fires

62-256.200 Definitions (Effective 7/6/05)

62-256.300 Prohibitions (Effective 7/6/05)

62-256.700 Open Burning Allowed (Effective 7/6/05)

Chapter 62-296 Stationary Sources—Emission Standards

62-296.100 Purpose and Scope (Effective 3/13/96)

62-296.320 General Pollutant Emission Limiting Standards (Effective 3/13/96)

62-296.340 Best Available Retrofit Technology (Effective 1/31/07)

62-296.341 Regional Haze—Reasonable Progress Control Technology (Effective 2/7/08)

62-296.401 Incinerators (Effective 1/10/07)

62-296.402 Sulfuric Acid Plants (Effective 3/13/96)

62-296.403 Phosphate Processing (Effective 3/13/96)

62-296.404 Kraft (Sulfate) Pulp Mills and Tall Oil Plants (Effective 3/13/96)

62-296.405 Fossil Fuel Steam Generators With More Than 250 Million Btu Per Hour Heat Input (Effective 3/2/99)

62-296.406 Fossil Fuel Steam Generators With Less Than 250 Million Btu Per Hour Heat Input, New and Existing Emissions Units (Effective 3/2/99)

62-296.407 Portland Cement Plants (Effective 1/1/96)

62-296.408 Nitric Acid Plants (Effective 1/1/96)

62-296.409 Sulfur Recovery Plants (Effective 1/1/96)

62-296.410 Carbonaceous Fuel Burning Equipment (Effective 1/1/96)

62-296.411 Sulfur Storage and Handling Facilities (Effective 1/1/96)

62-296.412 Dry Cleaning Facilities (Effective 10/7/96)

62-296.413 Synthetic Organic Fiber Production (Effective 2/12/06)

62-296.414 Concrete Batching Plants (Effective 1/10/07)

62-296.415 Soil Thermal Treatment Facilities (Effective 3/13/96)

62-296.416 Waste-to-Energy Facilities (Effective 10/20/96)

62-296.417 Volume Reduction, Mercury Recovery and Mercury Reclamation (Effective 3/2/99)

62-296.418 Bulk Gasoline Plants (Effective 5/9/07)

62-296.470 Implementation of Federal Clean Air Interstate Rule (Effective 4/1/07)

62-296.480 Implementation of Federal Clean Air Mercury Rule (Effective 9/6/06)

62-296.500 Reasonably Available Control Technology (RACT)—Volatile Organic Compounds (VOC) and Nitrogen Oxides (NOX) Emitting Facilities (Effective 1/1/96)

62-296.501 Can Coating (Effective 1/1/96)

62-296.502 Coil Coating (Effective 1/1/96)

62-296.503 Paper Coating (Effective 1/1/96)

62-296.504 Fabric and Vinyl Coating (Effective 1/1/96)

62-296.505 Metal Furniture Coating (Effective 1/1/96)

62-296.506 Surface Coating of Large Appliances (Effective 1/1/96)

62-296.507 Magnet Wire Coating (Effective 1/1/96)

62-296.508 Petroleum Liquid Storage (Effective 1/1/96)

62-296.510 Bulk Gasoline Terminals (Effective 1/1/96)

62-296.511 Solvent Metal Cleaning (Effective 10/7/96)

62-296.512 Cutback Asphalt (Effective 1/1/96)

62-296.513 Surface Coating of Miscellaneous Metal Parts and Products (Effective 1/1/96)

62-296.514 Surface Coating of Flat Wood Paneling (Effective 1/1/96)

62-296.515 Graphic Arts Systems (Effective 1/1/96)

62-296.516 Petroleum Liquid Storage Tanks with External Floating Roofs (Effective 1/1/96)

62-296.570 Reasonably Available Control Technology (RACT)—Requirements for Major VOC and NOX-Emitting Facilities (Effective 3/2/99)

62-296.600 Reasonably Available Control Technology (RACT)—Lead (Effective 3/13/96)

62-296.601 Lead Processing Operations in General (Effective 1/1/96)

62-296.602 Primary Lead-Acid Battery Manufacturing Operations (Effective 3/13/96)

62-296.603 Secondary Lead Smelting Operations (Effective 1/1/96)

62-296.604 Electric Arc Furnace Equipped Secondary Steel Manufacturing Operations (Effective 1/1/96)

62-296.605 Lead Oxide Handling Operations (Effective 8/8/1994)

62-296.700 Reasonably Available Control Technology (RACT) Particulate Matter (Effective 1/1/96)

62-296.701 Portland Cement Plants (Effective 1/1/96)

62-296.702 Fossil Fuel Steam Generators (Effective 1/1/96)

62-296.703 Carbonaceous Fuel Burners (Effective 1/1/96)

62-296.704 Asphalt Concrete Plants (Effective 1/1/96)

62-296.705 Phosphate Processing Operations (Effective 1/1/96)

62-296.706 Glass Manufacturing Process (Effective 1/1/96)

62-296.707 Electric Arc Furnaces (Effective 1/1/96)

62-296.708 Sweat or Pot Furnaces (Effective 1/1/96)

62-296.709 Lime Kilns (Effective 1/1/96)

62-296.710 Smelt Dissolving Tanks (Effective 1/1/96)

62-296.711 Materials Handling, Sizing, Screening, Crushing and Grinding Operations (Effective 1/1/96)

62-296.712 Miscellaneous Manufacturing Process Operations (Effective 1/1/96)

Chapter 62-297 Stationary Source—Emissions Monitoring

62-297.100 Purpose and Scope (Effective 3/13/96)

62-297.310 General Compliance Test Requirements (Effective 3/2/99)

62-297.320 Standards for Persons Engaged in Visible Emissions Observations (Effective 2/12/04)

62-297.401 Compliance Test Methods (Effective 3/2/99)

62-297.440 Supplementary Test Procedures (Effective 10/22/02)

62-297.450 EPA VOC Capture Efficiency Test Procedures (Effective 3/2/99)

62-297.520 EPA Continuous Monitor Performance Specifications (Effective 3/2/99)

62-297.620 Exceptions and Approval of Alternate Procedures and Requirements (Effective 11/23/94)

* * * * *

[FR Doc. E8-20385 Filed 9-3-08; 8:45 am]

BILLING CODE 6560-50-P